DEPARTMENT OF TRANSPORTATION

Federal Aviation Administration

Ninety-Fourth Meeting: Special Committee (159) Global Positioning System (GPS)

AGENCY: Federal Aviation Administration (FAA), U.S. Department of Transportation (DOT).

ACTION: Notice of ninety-fourth Special Committee 159 meeting.

SUMMARY: The FAA is issuing this notice to advise the public of the ninety-fourth Special Committee 159 meeting.

DATES: The meeting will be held October 19th-23rd from 9:00 a.m.-5:00 p.m.

ADDRESSES: The meeting will be held at RTCA, Inc., 1150 18th Street NW., Suite 910, Washington, DC 20036, Tel: (202) 330-0654.

FOR FURTHER INFORMATION CONTACT: The RTCA Secretariat, 1150 18th Street NW., Suite 910, Washington, DC 20036, or by telephone at (202) 833-9339, fax at (202) 833-9434, or Web site at http://www.rtca.org or Harold Moses, Program Director, RTCA, Inc., hmoses@rtca.org, (202) 330-0654.

SUPPLEMENTARY INFORMATION: Pursuant to section 10(a)(2) of the Federal Advisory Committee Act (Pub. L. 92-463, 5 U.S.C., App.), notice is hereby given for a meeting of Special Committee 159. The agenda will include the following:

Monday, October 19, 2015

1. All Day, Working Group 2, GPS/WAAS, MacIntosh-NBAA Room and Colson Board Rooms

Tuesday, October 20, 2015

1. All Day, Working Group 4, GPS/Precision Landing, MacIntosh-NBAA Room

2. All Day, Working Group 2C, GPS/Inertial, A4A & ARINC Room

3. Morning—9:00-12:00/Noon p.m., Working Group 2A, GPS/GLONASS, Colson Board Room

Wednesday, October 21, 2015

1. All Day, Working Group 4, GPS/Precision Landing, MacIntosh-NBAA and Colson Board Room

2. All Day, Working Group 2C, GPS/Inertial, A4A & ARINC Rooms

Thursday, October 22, 2015

1. All Day, Working Group 4, GPS/GPS/Precision Landing Guidance MacIntosh-NBAA Room

2. Morning—9:00-12:00/Noon p.m., Working Group 2C, GPS/Inertial, A4A and ARINC Rooms

3. Morning—9:00-12:00/Noon p.m., Working Group 7, GPS/Antennas, Colson Board Room

4. Afternoon—1:00-5:00 p.m. Working Group 6, GPS/Interference, A4A and ARINC Rooms

Friday, October 23, 2015

5. PLENARY SESSION

a. Chairman's Introductory Remarks.

b. Approval of Summary of the Ninety-Third Meeting held March 20, 2015, RTCA Paper No. 076-15/SC159-1037.

c. Review Working Group (WG) Progress and Identify Issues for Resolution.

i. GPS/3nd Civil Frequency (WG-1)

ii. GPS/WAAS (WG-2)

iii. GPS/GLONASS (WG-2A)

iv. GPS/Inertial (WG-2C)

v. GPS/Precision Landing Guidance (WG-4)

vi. GPS/Airport Surface Surveillance (WG-5)

vii. GPS/Interference (WG-6)

viii. GPS/Antennas (WG-7)

d. Review of EUROCAE Activities.

e. Response to EASA—Deviation Request ETSO-C145c—Review

f. SC-159 Terms of Reference—PMC approved June 18, 2015—Review

g. Briefing—FAA GNSS Intentional Interference and Spoofing Study Team (GIISST)

h. Assignment/Review of Future Work.

i. Other Business.

j. Date and Place of Next Meeting.

k. Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 30, 2015.
Latasha Robinson,
Management & Program Analyst, Next Generation, Enterprise Support Services Division, Federal Aviation Administration.

[FR Doc. 2015-25404 Filed 10-5-15; 8:45 am]

BILLING CODE 4910-13-P